FEDERAL RESERVE SYSTEM

Formations of, Acquisitions by, and Mergers of Bank Holding Companies; Correction

This notice corrects a notice (FR Doc. 03-11424) published on pages 24742 and 24743 of the issue for Thursday, May 8, 2003.

Under the Federal Reserve Bank of Boston heading, the entry for Citizens Financial Group, Inc., Providence Rhode Island, is revised to read as follows:

A. Federal Reserve Bank of Boston (Richard Walker, Community Affairs Officer) 600 Atlantic Avenue, Boston, Massachusetts 02106-2204:

1. Citizens Financial Group, Inc., Providence, Rhode Island; Royal Bank of Scotland, PLC, Theedinburgh; Royal Bank of Scotland Group PLC, Theedinburgh; and RBSG International Holdings Limited, Edinburgh, all in Scotland; to acquire 100 percent of the voting shares of Port Financial Corp., Brighton, Massachusetts, and its subsidiary, Cambridgeport Bank, Cambridge, Massachusetts, and to acquire up to 9.9 percent of the voting shares of Cambridge Bancorp, Cambridge, Massachusetts, and thereby indirectly acquire voting shares of Cambridge Trust Company, Cambridge, Massachusetts.

Comments on this application must be received by June 2, 2003.

Board of Governors of the Federal Reserve System, May 9, 2003.
Robert deV. Frierson,
Deputy Secretary of the Board.

[FR Doc. 03-12055 Filed 5-14-03; 8:45 am]

BILLING CODE 6210-01-S